DEPARTMENT OF ENERGY

Federal Energy Regulatory Commission

18 CFR Part 40

[Docket No. RM17-12-000; Order No. 840]

Emergency Preparedness and Operations Reliability Standards

AGENCY: Federal Energy Regulatory Commission.

ACTION: Final rule.

SUMMARY: The Federal Energy Regulatory Commission approves Emergency Preparedness and Operations (EOP) Reliability Standards EOP-004-4 (Event Reporting), EOP-005-3 (System Restoration from Blackstart Resources), EOP-006-3 (System Restoration Coordination), and EOP-008-2 (Loss of Control Center Functionality).

DATES: This rule will become effective March 26, 2018.

FOR FURTHER INFORMATION CONTACT:

E. Nick Henery (Technical Information), Office of Electric Reliability, Division of Reliability Standards and Security, Federal Energy Regulatory Commission, 888 First Street NE, Washington, DC 20426, Telephone: (202) 502-8636, Nick.Henery@ferc.gov.

Bob Stroh (Legal Information), Office of the General Counsel, Federal Energy Regulatory Commission, 888 First Street NE, Washington, DC 20426, Telephone: (202) 502-8473, Robert.Stroh@ferc.gov.

SUPPLEMENTARY INFORMATION: Before Commissioners: Kevin J. McIntyre, Chairman; Cheryl A. LaFleur, Neil Chatterjee, Robert F. Powelson, and Richard Glick.

1. Pursuant to section 215 of the Federal Power Act (FPA),¹ the Commission approves Emergency Preparedness and Operations (EOP) Reliability Standards EOP-004-4 (Event Reporting), EOP-005-3 (System Restoration from Blackstart Resources), EOP-006-3 (System Restoration Coordination), and EOP-008-2 (Loss of Control Center Functionality), submitted by the North American Electric Reliability Corporation (NERC), the Commission-certified Electric Reliability Organization (ERO). The Commission also approves the associated violation risk factors, violation severity levels, implementation plans, and effective dates. In addition, the Commission approves the retirement of currently-effective Reliability Standards EOP-004-3, EOP-005-2, EOP-006-2, and EOP-008-1 immediately prior to the effective dates of the EOP Reliability Standards.

¹ 16 U.S.C. 824(o). The approved Reliability Standards are available on the Commission's eLibrary document retrieval system in Docket No. RM17-12-000 and on the NERC website, www.nerc.com.

2. The Commission determines that the approved EOP Reliability Standards will enhance reliability by: (1) Providing accurate reporting of events to NERC's event analysis group to analyze the impact on the reliability of the bulk electric system (Reliability Standard EOP-004-4); (2) delineating the roles and responsibilities of entities that support system restoration from blackstart resources which generate power without the support of the bulk electric system (Reliability Standard EOP-005-3); (3) clarifying the procedures and coordination requirements for reliability coordinator personnel to execute system restoration processes (Reliability Standard EOP-006-3); and (4) refining the required elements of an operating plan used to continue reliable operations of the bulk electric system in the event that primary control center functionality is lost (Reliability Standard EOP-008-2).

I. Background

A. Regulatory Background

3. Section 215 of the FPA requires a Commission-certified ERO to develop mandatory and enforceable Reliability Standards that are subject to Commission review and approval. The Commission may approve, by rule or order, a proposed Reliability Standard or modification to a Reliability Standard if it determines that the Reliability Standard is just, reasonable, not unduly discriminatory or preferential and in the public interest.² Once approved, the Reliability Standards may be enforced by the ERO, subject to Commission oversight, or by the Commission independently.³

² Id. 824o(d)(2).

³ Id. 824o(e).

4. Pursuant to section 215 of the FPA, the Commission established a process to select and certify an ERO,⁴ and subsequently certified NERC.⁵ On March 16, 2007, the Commission issued Order No. 693, approving 83 of the 107 Reliability Standards filed by NERC, including the initial EOP Reliability Standards.⁶

⁴ Rules Concerning Certification of the Electric Reliability Organization; and Procedures for the Establishment, Approval, and Enforcement of Electric Reliability Standards, Order No. 672, FERC Stats. & Regs. ¶ 31,204, order on reh'g, Order No. 672-A, FERC Stats. & Regs. ¶ 31,212 (2006).

⁵ North American Electric Reliability Corp., 116 FERC ¶ 61,062, order on reh'g and compliance, 117 FERC ¶ 61,126 (2006), aff'd sub nom. Alcoa, Inc. v. FERC, 564 F.3d 1342 (D.C. Cir. 2009).

⁶ Mandatory Reliability Standards for the Bulk-Power System, Order No. 693, 72 FR 16416 (Apr. 4, 2007), FERC Stats. & Regs. ¶ 31,242, at P 297, order on reh'g, Order No. 693-A, 120 FERC ¶ 61,053 (2007).

B. NERC Petition

5. On March 27, 2017, NERC filed a petition seeking approval of the proposed EOP Reliability Standards and retirement of currently-effective Reliability Standards EOP-004-3, EOP-005-2, EOP-006-2, and EOP-008-1. NERC indicated that the revisions were intended to: (1) Streamline the currently-effective EOP Reliability Standards; (2) remove redundancies and other unnecessary language while making the Reliability Standards more results-based; ⁷ and (3) address the Commission's concern articulated in Order No. 749 regarding system restoration training.⁸

⁷ North American Electric Reliability Corp., 138 FERC ¶ 61,193, at P 81 (March 2012 Order), order on reh'g and clarification, 139 FERC ¶ 61,168 (2012). The March 2012 Order approved a NERC process to identify requirements that could be removed from Reliability Standards without impacting the reliability of the interconnected transmission network.

⁸ System Restoration Reliability Standards, Order No. 749, 134 FERC ¶ 61,215, at PP 18, 24 (2011).

C. Notice of Proposed Rulemaking and Comments

6. On September 20, 2017, the Commission issued a Notice of Proposed Rulemaking proposing to approve the EOP Reliability Standards submitted by NERC.⁹ In the NOPR the Commission indicated that Reliability Standard EOP-004-4 will enhance reliability by assigning reporting responsibilities to appropriate entities and clarifying the threshold reporting for a given event. In addition, the Commission proposed to find that Reliability Standard EOP-004-4 promotes efficiency and clarity by eliminating redundant reporting of a single event by multiple entities. The Commission also proposed to determine that Reliability Standards EOP-005-3, EOP-006-3, and EOP-008-2 will enhance reliability by delineating the roles and responsibilities of entities that support system restoration from blackstart resources; clarifying the procedures and coordination requirements for reliability coordinator personnel to execute system restoration processes; and refining the contents of an operating plan used by reliability coordinators, balancing authorities, and transmission operators to maintain the reliability of the bulk electric system in the event that primary control center functionality is lost.

⁹ Emergency Preparedness and Operations Reliability Standards, Notice of Proposed Rulemaking, 82 FR 44746 (Sept. 26, 2017), 160 FERC ¶ 61,072 (2017) (NOPR).

7. NERC, Edison Electric Institute (EEI), and Magnum CAES, LLC (Magnum) filed comments in response to the NOPR either supporting or taking no position on the NOPR proposal. NERC and EEI request that the Commission adopt the NOPR proposal to approve the EOP Reliability Standards. Magnum states that it does not take a specific position on the EOP Reliability Standards but believes that they are important tools in maintaining grid safety and reliability.

II. Discussion

8. Pursuant to FPA section 215(d)(2), the Commission approves Reliability Standards EOP-004-4, EOP-005-3, EOP-006-3, and EOP-008-2 as just, reasonable, not unduly discriminatory or preferential, and in the public interest. The Commission also approves the associated violation risk factors, violation severity levels, implementation plans, and effective dates. Further, the Commission approves the retirement of currently-effective Reliability Standards EOP-004-3, EOP-005-2, EOP-006-2, and EOP-008-1 immediately prior to the effective dates of the approved EOP Reliability Standards.

9. The Commission determines that Reliability Standard EOP-004-4 will enhance reliability by assigning reporting responsibilities to appropriate entities and clarifying the threshold reporting for a given event. In addition, aligning the reportable events and thresholds, where appropriate, identified in Attachments 1 and 2 of the Reliability Standard with the Department of Energy's Form OE-417 will improve the quality of information received by NERC and, as a result, the quality of analysis that NERC produces to assess the greatest risks to the bulk electric system. Further, Reliability Standard EOP-004-4 promotes efficiency and clarity by eliminating redundant reporting of a single event by multiple entities. The Commission determines that Reliability Standards EOP-005-3, EOP-006-3, and EOP-008-2 will enhance reliability by delineating the roles and responsibilities of entities that support system restoration from blackstart resources; clarifying the procedures and coordination requirements for reliability coordinator personnel to execute system restoration processes; and refining the contents of an operating plan used by reliability coordinators, balancing authorities, and transmission operators to maintain the reliability of the BES in the event that primary control center functionality is lost.

10. As discussed in the NOPR, under currently-effective Reliability Standard EOP-004-3, Attachment 1, reliability coordinators must report to NERC when they operate outside of their interconnection reliability operating limit (IROL) for greater than “Tv” (defined as less than or equal to 30 minutes). NERC proposed to eliminate the IROL violation reporting requirement in Attachment 1 of Reliability Standard EOP-004-4 because, according to NERC, Reliability Standard EOP-004 is primarily a tool for trending analysis and developing lessons learned and not designed to be a real-time tool. NERC stated that any real-time reporting to NERC or Regional Entities (i.e., contemporaneous with the transmission operator's notification of the IROL to the reliability coordinator) should be addressed in the Transmission Operations Reliability Standards, which deal with the real-time operations time horizon. NERC identified in its petition three Reliability Standards that, NERC asserted, require the reporting of such information.¹⁰ However, in the NOPR, the Commission indicated that it did not appear that these Reliability Standards require the reporting of IROL Tv exceedance information; instead, the Commission observed that currently NERC voluntarily shares IROL Tv exceedance information, collected pursuant to Reliability Standard EOP-004-3, with Commission staff so that Commission staff can monitor the transmission system and identify reliability trends.¹¹ In the NOPR, the Commission stated that it understands that NERC will continue to receive IROL Tv exceedance information and share it with Commission staff even after the retirement of Reliability Standard EOP-004-3. NERC did not dispute or otherwise take issue with the Commission's understanding in NERC's comments.¹² The Commission approves the retirement of currently-effective Reliability Standard EOP-004-3.

¹⁰ NERC cited Reliability Standards TOP-001-3 (Transmission Operations) and TOP-007-0 (Reporting System Operating Limit (SOL) and IROL Violations), and Reliability Standard IRO-009-2 (Reliability Coordinator Actions to Operate within IROLs).

¹¹ NOPR, 160 FERC ¶ 61,072 at P 15.

¹² None of the commenters disagreed with the Commission's understanding regarding IROL Tv exceedance information sharing.

III. Information Collection Statement

11. The Paperwork Reduction Act (PRA) ¹³ requires each federal agency to seek and obtain Office of Management and Budget (OMB) approval before undertaking a collection of information directed to ten or more persons, or contained in a rule of general applicability. The OMB regulations require that OMB approve certain reporting and recordkeeping (collections of information) imposed by an agency.¹⁴ Upon approval of a collection(s) of information, OMB will assign an OMB control number and expiration date. Respondents subject to the filing requirements of this rule will not be penalized for failing to respond to these collections of information unless the collections of information display a valid OMB control number.

¹³ 44 U.S.C. 3501-3520.

¹⁴ 5 CFR 1320.11.

12. In this Final Rule the Commission is approving the following Reliability Standards: EOP-004-4 (Event Reporting), EOP-005-3 (System Restoration from Blackstart Resources), EOP-006-3 (System Restoration Coordination), and EOP-008-2 (Loss of Control Center Functionality), associated with information collections FERC-725A and FERC-725S. The Commission also approves the associated violation risk factors, violation severity levels, implementation plans, and effective dates.

13. Public Reporting Burden: The changes reflected in these Reliability Standards are not expected to result in a net increase in the annual record-keeping and reporting requirements on applicable entities (GO, DP, RC, TO, TOP, and GOP).¹⁵ Our estimate in the tables below regarding the number of respondents is based on the NERC Compliance Registry as of September 15, 2017. Reliability Standards EOP-004-4, EOP-005-3, EOP-006-3, and EOP-008-2 will replace the paperwork burden approved in FERC-725A (OMB Control. No. 1902-0244) and be added to FERC-725S. That burden reflects an increase in total burden hours and cost based on adjustments in the number of entities and cost per hour applicable under the EOP Reliability Standards approved in this Final Rule. However, analysis comparing both previous burden approved in FERC-725A and burden for FERC-725S show an increase in total burden but no increase in burden hours per response.

¹⁵ Generator Operator (GOP); Generator Owner (GO); Transmission Operators (TOP); Transmission Owners (TO); Reliability Coordinator (RC); Distribution Provider (DP).

14. The first table for FERC-725A addresses the burden reduction for a total of 59,591.5 hours and $3,744,990 (55,929.5 hours and $3,595,708 from reporting requirement; and 3,662 hours and $149,282 from record keeping). The second table: (a) Moves burden from the old version in the Reliability Standards approved in FERC-725A to FERC-725S; (b) shows no net change in burden per entity between the new and old versions of the Reliability Standards; and (c) updates applicable entities and cost per hour figure.

¹⁶ In the burden table, reporting requirements (engineering) is abbreviated as “Eng.” and record keeping is abbreviated as “R.K.”

¹⁷ The estimates for cost per hour are based on 2015 wage figures. The table uses 2015 wage figures because 2015 wage figures were used when the requirements listed in the table were implemented. The wage figures were derived as follows:

$64.29/hour, the average salary plus benefits per electrical engineer, Occupation Code 17-2071 (from Bureau of Labor Statistics at https://www.bls.gov/oes/current/naics2_22.htm)

$37.75/hour, the average salary plus benefits for information and record clerks, Occupation Code 43-4071 (from Bureau of Labor Statistics at https://www.bls.gov/oes/current/naics2_22.htm)

The results of calculations are rounded to the nearest dollar in the burden table.

Reductions to FERC-725A, From the Final Rule in Docket No. RM17-12
Reliability standard and associated requirement | Number of respondents | Annual number of responses per respondent | Total number of responses | Average burden and cost per response ¹⁶ | Total annual burden and total annual cost ¹⁷ | Cost per respondent ($)
| (1) | (2) | (1) * (2) = (3) | (4) | (3) * (4) = (5) | (5) ÷ (1)
EOP-008-2
One-time Review and Revision of Plan (affected entities) | 215 | 1 | 215 | 20 hrs. (Eng.); ($1,286) (Reduction) | 4,300 hrs. (Eng.); ($276,447) (Reduction) | ($1,286) (Eng.) (Reduction).
Updating, Approving, and Maintaining Records (affected entities) | 215 | 1 | 215 | 6 hrs. (Eng.); ($386) 2 hrs. (R.K.); ($76) (Reduction) | 1,290 hrs. (Eng.); ($82,934) 430 hrs. (R.K.); ($16,233) (Reduction) | ($386) (Eng.); ($76) (R.K.) (Reduction).
One-time Contracting (affected entities) | 27 | 1 | 27 | 120 hrs. (Eng.) ($7,715) (Reduction) | 3,240 hrs. ($208,300) (Eng.) (Reduction) | ($7,715) (Eng.) (Reduction).
EOP-005-3 & EOP-006-3
RC Data Retention | 26 | 2 | 52 | 8 hrs. (R.K.) ($514) (Reduction) | 416 hrs. (R.K.); ($26,745) (Reduction) | ($514) (R.K.) (Reduction).
TOP Reporting Data | 176 | 1 | 176 | 116 hrs. (Eng.); ($7,458) 16 hrs. (R.K.); ($604) (Reduction) | 20,416 hrs. (Eng.); ($1,312,545) 2,816 hrs. (R.K.); ($106,304) | ($7,458) (Eng.); ($604) (R.K.) (Reduction).
GOP Testing | 230 | 1 | 230 | 80 hrs. (Eng.); ($5,143) (Reduction) | 18,400 hrs. (Eng.); ($1,182,936) (Reduction) | ($5,143) (Eng.) (Reduction).
TO and DP Training | 678 | 1 | 678 | 8 hrs. (Eng.); ($514) (Reduction) | 5,424 hrs. (Eng.); ($348,709) (Reduction) | ($514) (Eng.) (Reduction).
EOP-004-4
One-Time Review and Revision of Plan (affected entities) | 1,400 | 1 | 1,400 | 2 hrs. (Eng.); ($129) (Reduction) | 2,800 hrs. (Eng.) ($180,012) (Reduction) | ($129) (Reduction).
Reporting Events (affected entities) | 350 | 1 | 350 | 0.17 hrs. (Eng.); ($11) (Reduction) | 59.5 hrs. (Eng.); ($3,825) (Reduction) | ($11) (Reduction).
Total, Reductions to FERC-725A |  |  | 3,343 (Reduction) |  | 59,591.5 hrs; ($3,744,990) (Eng.) 55,929.5 hrs.; ($3,595,708); (R.K.) 3,662 hrs.; ($149,282) (Reduction) |

In the table below Reliability Standards EOP-004-4, EOP-005-3, EOP-006-3, and EOP-008-2 will result in paperwork burden being added to FERC-725S (OMB Control No. 1902-0270). These Reliability Standards will replace previous versions whose paperwork burden was previously approved in FERC-725A (OMB Control. No. 1902-0244). The burden being added to FERC-725S reflects an increase from the previous versions of the Reliability Standards in total burden hours and cost based on adjustments in the one additional entities and changes to hourly cost.

¹⁸ In the burden table, reporting requirement (engineering) is abbreviated as “Eng.” and record keeping is abbreviated as “R.K.”

¹⁹ The estimates for cost per hour are based on May 2016 wage figures and derived as follows:

$68.12/hour, the average salary plus benefits per electric engineer, Occupation Code 17-2071, (from Bureau of Labor Statistics at https://www.bls.gov/oes/current/naics2_22.htm)

$39.14/hour, the average salary plus benefits per information and record clerks Occupation Code 43-4071, (from Bureau of Labor Statistics at https://www.bls.gov/oes/current/naics2_22.htm)

The results of calculations are rounded to the nearest dollar within the burden table.

FERC-725S, Modifications Due to Final Rule in Docket No. RM17-12
Reliability standard and associated requirement | Number of respondents | Annual number of responses per respondent | Total number of responses | Average burden and cost per response ¹⁸ | Total annual burden and total annual cost ¹⁹ | Cost per respondent ($)
| (1) | (2) | (1) * (2) = (3) | (4) | (3) * (4) = (5) | (5) ÷ (1)
EOP-008-2
One-time Review in Year 1 | 216 | 1 | 216 | 20 hrs. (Eng.); $1,362 | 4,320 hrs. (Eng.); $294,192 | $1,362 (Eng.).
Updating, Approving, and Maintaining Records | 216 | 1 | 216 | 6 hrs. (Eng.); $409 2 hrs. (R.K.); $78 | 1728 hrs., $105,092 (1,296 hrs. (Eng.); $88,244 (R.K.); 432 hrs; $16,848) | $487 ($409 (Eng.); $78 (R.K.)).
One-time Contracting in Year 1 | 27 | 1 | 27 | 120 hrs. (Eng.) $8174 | 3,240 hrs. $220,698 (Eng.) | $8174 (Eng.).
EOP-005-3 & EOP-006-3
RC Data Retention | 11 | 2 | 22 | 8 hrs. (R.K.) $313 | 176 hrs. (R.K.); $6,886 | $626 (R.K.).
TOP Reporting Data | 177 | 1 | 177 | 132 hrs., $8528 (116 hrs. (Eng.); $7,902 16 hrs. (R.K.); $626) | 23,364 hrs., $1,209,456 (20,532 hrs. (Eng.); $1,398,654 2,832 hrs. (R.K.); $110,802) | $8528 ($7,902 (Eng.); $626 (R.K.).
GOP Testing | 264 | 1 | 264 | 80 hrs. (Eng.); $5450 | 21,120 hrs. (Eng.); $1,438,800 | $5,450 (Eng.).
TO and DP Training | 524 | 1 | 524 | 8 hrs. (Eng.); $545 | 4,192 hrs. (Eng.); $285,580 | $545 (Eng.).
EOP-004-4
One-Time Review and Revision in Year 1 (affected entities) | 1,475 | 1 | 1,475 | 2 hrs. (Eng.); $136 | 2,950 hrs. (Eng.) $200,600 | $136 (Eng.).
Reporting Events (affected entities) | 368 | 1 | 368 | 0.17 hrs. (Eng.); $12 | 63 hrs. (Eng.); $4,416 | $12 (Eng.).
Total Year 1 |  |  | 3,289 |  | 61,090 hrs.; $4,036,100 ((Eng.) 57,650 hrs., $3,901,204; (R.K) 3440 hrs., $134,896) |
Total Year 2 |  |  | 1,571 |  | 50,643 hrs., $3,350,230 |
Total Year 3 |  |  | 1,571 |  | 50,643 hrs., $3,350,230 |

In the table above, we indicate the annual total burden for years 1, 2 and 3 for FERC-725S (OMB Control No. 1902-0270). The average annual burden for years 1, 2, and 3 is (61,090 hours + 50,643 hours + 50,643/3 = 54,125. The average annual cost is $3,578,853.

Title: FERC-725A, Mandatory Reliability Standards for the Bulk-Power System and FERC-725S Mandatory Reliability Standards: Emergency Preparedness and Operations (EOP).

Action: Revision to existing collections.

OMB Control Nos.: 1902-0244 (FERC-725A); 1902-0270 (FERC-725S).

Respondents: Businesses or other for-profit institutions; not-for-profit institutions.

Frequency of Responses: One-Time and Annually.

Necessity of the Information: Reliability Standards EOP-008-1, EOP-005-3, EOP-006-3, and EOP-004-4 provide accurate reporting of events to NERC's event analysis group to analyze the impact on the reliability of the bulk electric system (Reliability Standard EOP-004-4); delineate the roles and responsibilities of entities that support system restoration from blackstart resources (Reliability Standard EOP-005-3); clarify the procedures and coordination requirements for reliability coordinator personnel to execute system restoration processes (Reliability Standard EOP-006-3); and, refine the required elements of an operating plan used to continue reliable operations of the bulk electric system if that primary control functionality is lost (Reliability Standard EOP-008-2). These Reliability Standards modifications are designed to eliminate redundant reporting of a single event by multiple entities, assign reporting requirements to appropriate entities, and clarify the threshold reporting for a given event.

Internal Review: The Commission reviewed the revised Reliability Standards and made a determination that its action is necessary to implement section 215 of the FPA. The Commission has assured itself, by means of its internal review, that there is specific, objective support for the burden estimates associated with the information requirements.

15. Interested persons may obtain information on the reporting requirements by contacting the following: Federal Energy Regulatory Commission, 888 First Street NE, Washington, DC 20426 [Attention: Ellen Brown, Office of the Executive Director, email: DataClearance@ferc.gov, phone: (202) 502-8663, fax: (202) 273-0873].

For submitting comments concerning the collection(s) of information and the associated burden estimate(s), please send your comments to the Commission and to the Office of Management and Budget, Office of Information and Regulatory Affairs, Washington, DC 20503 [Attention: Desk Officer for the Federal Energy Regulatory Commission, phone: (202) 395-0710, fax: (202) 395-7285]. For security reasons, comments to OMB should be submitted by email to: oira_submission@omb.eop.gov. Comments submitted to OMB should include 1902-0244 and 1902-0270 and Docket Number RM17-12-000.

IV. Environmental Analysis

16. The Commission is required to prepare an Environmental Assessment or an Environmental Impact Statement for any action that may have a significant adverse effect on the human environment.²⁰ The Commission has categorically excluded certain actions from this requirement as not having a significant effect on the human environment. Included in the exclusion are rules that are clarifying, corrective, or procedural or that do not substantially change the effect of the regulations being amended.²¹ The actions taken here fall within this categorical exclusion in the Commission's regulations.

²⁰ Regulations Implementing the National Environmental Policy Act of 1969, Order No. 486, FERC Stats. & Regs. ¶ 30,783 (1987).

²¹ 18 CFR 380.4(a)(2)(ii).

V. Regulatory Flexibility Act

17. The Regulatory Flexibility Act of 1980 (RFA) ²² generally requires a description and analysis of Final Rule that will have significant economic impact on a substantial number of small entities. The RFA does not mandate any particular outcome in a rulemaking. It only requires consideration of alternatives that are less burdensome to small entities and an agency explanation of why alternatives were rejected.

²² 5 U.S.C. 601-612.

18. In this Final Rule, the Commission estimates a one-time cost of compliance for administering the changes in the approved Reliability Standards versus their prior versions but no ongoing net burden change. The total average annual burden and cost to industry over years 1, 2 and 3 is 54,125 hours and $3,578,853. Therefore, the average annual cost per entity is $16,569. Comparison of the applicable entities with the Commission's small business data indicates that approximately 45 (or 21 percent) of applicable entities are small entities. Accordingly, the Commission certifies that the Final Rule will not have a significant economic impact on a substantial number of small entities.

VI. Effective Date and Congressional Notification

19. These regulations are effective March 26, 2018. The Commission has determined, with the concurrence of the Administrator of the Office of Information and Regulatory Affairs of OMB, that this rule is not a “major rule” as defined in section 351 of the Small Business Regulatory Enforcement Fairness Act of 1996.

VII. Document Availability

20. In addition to publishing the full text of this document in the Federal Register, the Commission provides all interested persons an opportunity to view and/or print the contents of this document via the internet through the Commission's Home Page (http://www.ferc.gov) and in the Commission's Public Reference Room during normal business hours (8:30 a.m. to 5:00 p.m. Eastern time) at 888 First Street NE, Room 2A, Washington, DC 20426.

21. From the Commission's Home Page on the internet, this information is available on eLibrary. The full text of this document is available on eLibrary in PDF and Microsoft Word format for viewing, printing, and/or downloading. To access this document in eLibrary, type the docket number of this document, excluding the last three digits, in the docket number field.

22. User assistance is available for eLibrary and the Commission's website during normal business hours from the Commission's Online Support at (202) 502-6652 (toll free at 1-866-208-3676) or email at ferconlinesupport@ferc.gov, or the Public Reference Room at (202) 502-8371, TTY (202) 502-8659. Email the Public Reference Room at public.referenceroom@ferc.gov.

VIII. Effective Date and Congressional Notification

23. These regulations are effective March 26, 2018. The Commission has determined, with the concurrence of the Administrator of the Office of Information and Regulatory Affairs of OMB, that this rule is not a “major rule” as defined in section 351 of the Small Business Regulatory Enforcement Fairness Act of 1996. The Commission will submit the Final Rule to both houses of Congress and to the General Accountability Office.

By the Commission.
Issued: January 18, 2018.
Nathaniel J. Davis, Sr.,
Deputy Secretary.

[FR Doc. 2018-01246 Filed 1-23-18; 8:45 am]

BILLING CODE 6717-01-P